FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before January 15, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-0270.

Title: Section 90.443, Content of Station Records.

Form Number: N/A.

Type of Review: Extension of a currently approved collection.

Respondents: Individuals or households, business or other for-profit entities, not-for-profit institutions and state, local or tribal government.

Number of Respondents: 65,295 respondents; 65,295 responses.

Estimated Time per Response: .25 hours.

Frequency of Response: Recordkeeping requirement.

Obligation to Respond: Required to obtain or retain benefits. Statutory authority for this information collection is contained in 47 U.S.C. section 309(j) of the Communications Act of 1934, as amended.

Total Annual Burden: 16,324 hours.

Total Annual Cost: N/A.

Privacy Impact Assessment: Yes. Records of the Wireless Radio Services may include information about individuals or households, and the use(s) and disclosure of this information is governed by the requirements of a system of records, FCC/WTB-1, “Wireless Services Licensing Records”.

Nature and Extent of Confidentiality: Respondents may request materials or information submitted to the Commission be withheld from public inspection under 47 CFR 0.459 of their rules. Information within Wireless Radio Services is maintained in the Commission's system or records notice or `SORN', FCC/WTB-1, “Wireless Services Licensing Records”.

Information on private land mobile licensees is maintained in the Commission's system of records. The licensee records will be publicly available and routinely used in accordance with subsection b of the Privacy Act.

Needs and Uses: Each licensee in the private land mobile radio service must comply with the recordkeeping requirement in 47 CFR section 90.443 of the Commission's rules. Specifically, paragraph (b) of this section requires that the dates and pertinent details of any maintenance performed on station equipment, and the name and address of the service technician who did the work be entered in the station records. These records will reflect whether or not maintenance of the licensee's equipment has been performed.

OMB Control Number: 3060-XXXX.

Title: Annual Report for Mobility Fund Phase I Support, FCC Form 690 and Record Retention Requirements.

Form Number: FCC Form 690.

Type of Review: New collection.

Respondents: Business or other for-profit entities, not-for-profit institutions and state, local or tribal government.

Number of Respondents: 70 respondents; 890 responses.

Estimated Time per Response: 18 hours.

Frequency of Response: On occasion reporting requirement and recordkeeping requirement.

Obligation to Respond: Required to obtain or retain benefits. Statutory authority for this information collection is contained in 47 U.S.C. sections 154, 254 and 303(r) of the Communications Act of 1934, as amended.

Total Annual Burden: 14,830 hours.

Total Annual Cost: N/A.

Privacy Impact Assessment: N/A.

Nature and Extent of Confidentiality: There is no need for confidentiality. The information to be collected will be made available for public inspection. Applicants may request materials or information submitted to the Commission be given confidential treatment under 47 CFR 0.459 of the Commission's rules.

Needs and Uses: On November 18, 2011, the Federal Communications Commission released a Report and Order, FCC 11-161, in the Universal Service Fund and Intercarrier Compensation Transformation Order (USF/ICC) proceeding; and a Bureau Order, DA 12-147, in the same proceeding, on February 3, 2012, which adopted rules to govern the Connect America Fund Mobility Fund. On May 14, 2012, the Commission released the Third Order on Reconsideration of the USF/ICC Report and Order, FCC 12-52, which revised certain Mobility Fund Phase I rules. In adopting the rules, the Commission provided for one-time support to immediately accelerate deployment of networks for mobile broadband services in unserved areas. Thus, the information being collected is being used to meet the objectives of the Universal Service Fund program. The Commission will also use this information to ensure that each winning bidder is meeting its obligations for receiving Mobility Fund Phase I support.

Federal Communications Commission.
Marlene H. Dortch,
Secretary, Office of the Secretary, Office of Managing Director.

[FR Doc. 2012-27796 Filed 11-15-12; 8:45 am]

BILLING CODE 6712-01-P